DEPARTMENT OF THE INTERIOR

Bureau of Reclamation

[DOI-2020-0016; RR81300000, 212R5065C6, RX.59189825.2008813]

Privacy Act of 1974; System of Records

AGENCY: Bureau of Reclamation, Interior.

ACTION: Rescindment of a system of records notice.

SUMMARY: The Department of the Interior (DOI) is issuing a public notice of its intent to rescind the Bureau of Reclamation (Reclamation) Privacy Act system of records notice, INTERIOR/WBR-11, Identification/Security Cards. This system of records notice was superseded by a Department-wide system of records notice, INTERIOR/DOI-46, Physical Security Access Files; however, it was never formally rescinded.

DATES: These changes take effect on May 4, 2021.

ADDRESSES: You may send comments identified by docket number [DOI-2020-0016] by any of the following methods:

• Federal eRulemaking Portal: http://www.regulations.gov. Follow the instructions for sending comments.

• Email: DOI_Privacy@ios.doi.gov. Include docket number [DOI-2020-0016] in the subject line of the message.

• U.S. Mail or Hand-Delivery: Teri Barnett, Departmental Privacy Officer, U.S. Department of the Interior, 1849 C Street NW, Room 7112, Washington, DC 20240.

Instructions: All submissions received must include the agency name and docket number [DOI-2020-0016]. All comments received will be posted without change to http://www.regulations.gov, including any personal information provided.

Docket: For access to the docket to read background documents or comments received, go to http://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: Regina Magno, Associate Privacy Officer, Bureau of Reclamation, P.O. Box 25007, Denver, CO 80225, privacy@usbr.gov or (303) 445-3326.

SUPPLEMENTARY INFORMATION: Pursuant to the provisions of the Privacy Act of 1974, as amended, 5 U.S.C. 552a, Reclamation is rescinding the system of records notice, INTERIOR/WBR-11, Identification/Security Cards, and removing it from its inventory. This system was used to manage physical security operations and access to Reclamation controlled buildings and facilities.

During a review of Reclamation's system of records notices, it was determined that this system is no longer needed since the records are covered by a published Department-wide system of records notice, INTERIOR/DOI-46, Physical Security Access Files, 85 FR 3406 (January 21, 2020). Therefore, Reclamation is rescinding this system of records notice to avoid duplication of existing system of records notices in accordance with the Office of Management and Budget Circular A-108, Federal Agency Responsibilities for Review, Reporting, and Publication under the Privacy Act.

Rescinding the INTERIOR/WBR-11, Identification/Security Cards, system of records notice will have no adverse impacts on individuals as the records are covered by and maintained under an existing published DOI system of records notice. This rescindment will promote the overall streamlining and management of DOI Privacy Act systems of records. This notice hereby rescinds the INTERIOR/WBR-11, Identification/Security Cards, system of records notice as identified below.

SYSTEM NAME AND NUMBER:

INTERIOR/WBR-11, Identification/Security Cards.

HISTORY:

65 FR 6393 (February 9, 2000); modification published at 73 FR 20949 (April 17, 2008).

Signed:
Teri Barnett,
Departmental Privacy Officer, Department of the Interior.

[FR Doc. 2021-09373 Filed 5-3-21; 8:45 am]

BILLING CODE 4332-90-P